DEPARTMENT OF THE INTERIOR

Minerals Management Service (MMS)

[Docket ID MMS-2010-OMM-0002]

Notice of Availability of the Revised Minerals Management Service Documentation of Section 106 Finding of Adverse Effect (Revised Finding) for the Proposed Cape Wind Energy Project Located on the Outer Continental Shelf (OCS) in Nantucket Sound, and the Opportunity for Public Comment

AGENCY: Minerals Management Service, Interior.

ACTION: Notice of Availability.

SUMMARY: The MMS has prepared a revised version of its Section 106 Finding of Adverse Effect document related to the proposed Cape Wind Energy Project pursuant to implementing regulations for Section 106 of the National Historic Preservation Act (36 CFR Part 800). The original Finding of Adverse Effect for this project was dated January 29, 2009. The Finding of Adverse Effect is being revised in response to new information that five additional properties within the Area of Adverse Effect for the project have now been found to be eligible for inclusion in the National Register of Historic Places.

DATES: The comment period for the Revised Finding document closes February 12, 2010.

FOR FURTHER INFORMATION CONTACT: Mr. Poojan Tripathi, Minerals Management Service, Cape Wind Project Manager, at (703) 787-1738.

SUPPLEMENTARY INFORMATION:

Cape Wind Energy Project Description

In November 2001, Cape Wind Associates, LLC applied for a permit from the U.S. Army Corps of Engineers (USACE) under the Rivers and Harbors Act of 1899 to construct an offshore wind power facility on Horseshoe Shoal in Nantucket Sound, Massachusetts. Following the adoption of the Energy Policy Act of 2005 (EPAct) and its associated amendments to the Outer Continental Shelf Lands Act (OCSLA), the Department of the Interior was given statutory authority to issue leases, easements, or rights-of-way for renewable energy projects on the Outer Continental Shelf (OCS). Accordingly, Cape Wind Associates, LLC, submitted an application to MMS in 2005 to construct, operate, and eventually decommission an offshore wind power facility on Horseshoe Shoal in Nantucket Sound, Massachusetts. The project calls for 130, 3.6± megawatt (MW) wind turbine generators, each with a maximum blade height of 440 feet, to be arranged in a grid pattern in 25 square miles of Nantucket Sound, offshore of Cape Cod, Martha's Vineyard, and Nantucket Island. With a maximum electric output of 468 megawatts and an average anticipated output of 182 megawatts, the facility is projected to generate up to three quarters of the Cape and Islands' electricity needs. Each of the 130 wind turbine generators would generate electricity independently. Solid dielectric submarine inner-array cables (33 kilovolt) from each wind turbine generator would interconnect within the array and terminate on an electrical service platform, which would serve as the common interconnection point for all of the wind turbines. The proposed submarine transmission cable system (115 kilovolt) from the electric service platform to the landfall location in Yarmouth is approximately 12.5 miles in length (7.6 miles of which falls within Massachusetts' territorial waters).

Nantucket Sound is a roughly triangular body of water generally bound by Cape Cod, Martha's Vineyard, and Nantucket Island. Open bodies of water include Vineyard Sound to the West and the Atlantic Ocean to the East and the South. Nantucket Sound encompasses between 500-600 square miles of ocean, most of which lies in Federal waters. The Cape Wind Energy Project would be located completely on the OCS in Federal waters, aside from transmission cables running through Massachusetts territorial waters ashore. For reference, the northernmost turbines would be approximately 5.2 miles (8.4 km) from Point Gammon on the mainland; the southernmost turbines would be approximately 11 miles (17.7 km) from Nantucket Island (Great Point), and the westernmost turbines would be approximately 5.5 miles (8.9 km) from the island of Martha's Vineyard (Cape Poge).

ADDRESSES: The Revised Finding document can be accessed online at: http://www.mms.gov/offshore/RenewableEnergy/CapeWind.htm. Comments on the Revised Finding should be mailed or hand carried to the Minerals Management Service, Attention: James F. Bennett, 381 Elden Street, Mail Stop 4042, Herndon, Virginia 20170-4817. Envelopes or packages should be marked “Cape Wind Energy Project Revised Findings Document.” The MMS will also accept comments submitted electronically through the web page at Federal eRulemaking Portal: http://www.regulations.gov. In the entry titled “Enter Keyword or ID,” enter docket ID MMS-2010-OMM-0002, then click search. Under the tab “View By Docket Folder” you can submit public comments for this Notice. The MMS will post all comments.

Public Comment Procedures: Before including your address, phone number, e-mail address, or other personal identifying information in your comment, you should be aware that your entire comment—including your personal identifying information—may be made publicly available at any time. While you can ask us in your comment to withhold your personal identifying information from public review, we cannot guarantee that we will be able to do so.

The MMS is making the Revised Finding available for public review and comment. The written comments on the Revised Finding will be reviewed and considered as part of the ongoing NHPA Section 106 consultation process, and in particular, MMS' effort to resolve these adverse effects pursuant to 36 CFR subpart 800.6. The comment period for the Revised Finding document closes February 12, 2010.

January 19, 2010.
Chris C. Oynes,
Associate Director for Offshore Energy and Minerals Management.

[FR Doc. 2010-1279 Filed 1-22-10; 8:45 am]

BILLING CODE 4310-MR-P